FEDERAL COMMUNICATIONS COMMISSION

47 CFR Part 64

[CG Docket Nos. 13-24 and 03-123; FCC 13-118]

Misuse of Internet Protocol (IP) Captioned Telephone Service; Telecommunications Relay Services and Speech-to-Speech Services for Individuals With Hearing and Speech Disabilities

AGENCY: Federal Communications Commission.

ACTION: Final rule; announcement of effective date.

SUMMARY: In this document, the Commission announces that the Office of Management and Budget (OMB) has approved, for a period of six months, the information collection associated with the Commission's document Misuse of Internet Protocol (IP) Captioned Telephone Service; Telecommunications Relay Services and Speech-to-Speech Services for Individuals With Hearing and Speech Disabilities (Report and Order). This document is consistent with the Report and Order, which stated that the Commission would publish a document in the Federal Register announcing the effective date of those rules.

DATES: The final rule amending 47 CFR 64.604(c)(9), published at 78 FR 53684, August 30, 2013, is effective August 28, 2014.

FOR FURTHER INFORMATION CONTACT: Eliot Greenwald, Disability Rights Office, Consumer and Governmental Affairs Bureau, at (202) 418-2235, or email Eliot.Greenwald@fcc.gov.

SUPPLEMENTARY INFORMATION: This document announces that, on August 5, 2014, OMB approved, for a period of six months, the information collection requirements contained in the Commission's Report and Order, FCC 13-118, published at 78 FR 53684, August 30, 2013. The OMB Control Number is 3060-1053. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1053, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on August 5, 2014, for the information collection requirements contained in the Commission's rules at 47 CFR 64.604(c)(9).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1053.

The foregoing notice is required by the Paperwork Reduction Act of 1995, Pub. L. 104-13, October 1, 1995, and 44 U.S.C. 3507.

The total annual reporting burdens and costs for the respondents are as follows:

OMB Control Number: 3060-1053.

OMB Approval Date: August 5, 2014.

OMB Expiration Date: February 28, 2015.\n\n

Title: Two-Line Captioned Telephone Order and IP Captioned Telephone Service Declaratory Ruling; and Internet Protocol Captioned Telephone Service Reform Order, CG Docket Nos. 13-24 and 03-123.

Form Number: N/A.

Type of Review: Revision of a currently approved collection.

Respondents: Business or other for-profit entities.

Number of Respondents and Responses: 186,005 respondents; 745,280 responses.

Estimated Time per Response: .25 hours (15 minutes) to 20 hours.

Frequency of Response: Annual, every five years, on-going, and one-time reporting requirements; Recordkeeping requirement; Third party disclosure requirement.

Obligation to Respond: Required to obtain or retain benefits. The statutory authority for the information collection requirements is found at Sec. 225 [47 U.S.C. 225] Telecommunications Services for Hearing-Impaired Individuals; The Americans With Disabilities Act of 1990 (ADA), Pub. L. 101-336, 104 Stat. 327, 366-69, was enacted on July 26, 1990.

Total Annual Burden: 542,252 hours.

Total Annual Cost: $1,008,000.

Nature and Extent of Confidentiality: An assurance of confidentiality is not offered because this information collection does not require the collection of personally identifiable information by the Commission from individuals.

Privacy Impact Assessment: No impact(s).

Needs and Uses: On August 1, 2003, the Commission released the Declaratory Ruling, In the Matter of Telecommunication Relay Services and Speech-to-Speech Services for Individuals With Hearing and Speech Disabilities, CC Docket No. 98-67, published at 68 FR 55898, September 28, 2003. In the Declaratory Ruling, the Commission clarified that one-line captioned telephone voice carry over (VCO) service is a type of telecommunications relay service (TRS) and that eligible providers of such services are eligible to recover their costs in accordance with section 225 of the Communications Act. The Commission also clarified that certain TRS mandatory minimum standards do not apply to one-line captioned telephone VCO service and waived 47 CFR 64.604(a)(1) and (a)(3) for all current and future captioned telephone VCO service providers, for the same period of time beginning August 1, 2003. The waivers were contingent on the filing of annual reports, for a period of three years, with the Commission. Sections 64.604(a)(1) and (a)(3) of the Commission's rules, which contained information collection requirements under the PRA, became effective on March 26, 2004.

On July 19, 2005, the Commission released an Order, In the Matter of Telecommunication Relay Services and Speech-to-Speech Services for Individuals With Hearing and Speech Disabilities, CC Docket No. 98-67 and CG Docket No. 03-123, published at 70 FR 54294, September 14, 2005, clarifying that two-line captioned telephone VCO service, like one-line captioned telephone VCO service, is a type of TRS eligible for compensation from the Interstate TRS Fund. Also, the Commission clarified that certain TRS mandatory minimum standards do not apply to two-line captioned VCO service and waived 47 CFR 64.604(a)(1) and (a)(3) for providers who offer two-line captioned VCO service.

On January 11, 2007, the Commission released a Declaratory Ruling, In the Matter of Telecommunications Relay Services and Speech-to-Speech Services for Individuals With Hearing and Speech Disabilities, CG Docket No. 03-123, published at 72 FR 6960, February 14, 2007, granting a request for clarification that Internet Protocol (IP) captioned telephone relay service (IP CTS) is a type of TRS eligible for compensation from the Interstate TRS Fund (Fund) when offered in compliance with the applicable TRS mandatory minimum standards.

On August 26, 2013, the Commission issued a Report and Order, In the Matter of Misuse of Internet Protocol (IP) Captioned Telephone Service; Telecommunications Relay Services and Speech-to-Speech Services for Individuals With Hearing and Speech Disabilities, CG Docket Nos. 13-24 and 03-123, published at 78 FR 53684, August 30, 2013, to regulate practices relating to the marketing of IP CTS, impose certain requirements for the provision of this service, and mandate registration and certification of IP CTS users. The Commission published a notice in the Federal Register pursuant to 5 CFR 1320.8(d) on September 25, 2013 (78 FR 59025), seeking comments from the public on the information collection requirements contained in the initial supporting statement. Sorenson Communications, Inc., and its subsidiary CaptionCall, LLC (together, CaptionCall), filed comments on November 25, 2013, regarding the user registration and certification requirements adopted in the Report and Order as well as the certification, recordkeeping, and reporting requirements for hardship exemptions to the captions-off default setting requirement, also adopted in the Report and Order. CaptionCall did not comment on the other collections adopted in the Report and Order.

Subsequently, on December 6, 2013, the United States Court of Appeals for the District of Columbia Circuit stayed “the rule adopted by the Commission [in the Report and Order] prohibiting compensation to providers for minutes of use generated by equipment consumers received from providers for free or for less than $75.” Sorenson Communications, Inc. and CaptionCall, LLC v. FCC, Order, D.C. Cir., No. 13-1246, December 6, 2013, at 1-2. (For convenience, this notice refers to the requirement subject to the stay as “the $75 equipment charge rule.”) In the revised supporting statement, the Commission sought OMB approval of the following requirements adopted in the Report and Order: (1) The requirements regarding the labeling of equipment, software and mobile applications; (2) the certification, recordkeeping, and reporting requirements for the hardship exemption to the captions default-off requirement; and (3) an additional information reporting requirement for IP CTS applicants that seek Commission certification to provide IP CTS and for IP CTS providers, requiring applicants to provide assurance that they will not request or collect payment from the TRS Fund for service to consumers who do not satisfy the Commission's IP CTS registration and certification requirements. Because the registration and certification requirements adopted in the Report and Order are related to the $75 equipment charge rule that was stayed by the court of appeals, the Commission did not seek OMB approval of those requirements at that time. See 79 FR 23354, April 28, 2014.

On June 18, 2014, OMB approved, for a period of three years, the information collection requirements specified above that are contained in the Commission's Report and Order, FCC 11-118, published at 78 FR 53684, August 30, 2013. The OMB Control Number is 3060-1053.

On June 20, 2014, the D.C. Circuit vacated the $75 equipment charge rule and the rule requiring providers to maintain captions-off as the default setting for IP CTS equipment. Sorenson Communications, Inc. and CaptionCall, LLC v. FCC (D.C. Cir., Nos. 13-1122 and 13-1246, June 20, 2014).

On July 11, 2014, the Commission published a notice in the Federal Register, at 79 FR 40003, a notification that information collection requirements (1) regarding the labeling of equipment, software and mobile applications; (2) the certification, recordkeeping, and reporting for the hardship exemption to the captions default-off requirement; and (3) for IP CTS applicants that seek Commission certification to provide IP CTS and for IP CTS providers to provide assurance that they will not request or collect payment from the TRS Fund for service to consumers who do not satisfy the Commission's IP CTS registration and certification requirements would become effective immediately. Because the court had not yet issued its mandate, the captions-off default requirement, 47 CFR 64.604(c)(10)(i), (iii), and (v), remained in effect, and the certification, recordkeeping, and reporting requirements for the hardship exemption to the captions default-off requirement, 47 CFR 64.604(c)(10)(iv), became effective at that time.

On August 19, 2014, the court issued its mandate vacating the $75 equipment charge rule and the rule requiring providers to maintain captions-off as the default setting for IP CTS equipment. Sorenson Communications, Inc. and CaptionCall, LLC v. FCC (D.C. Cir., Nos. 13-1122 and 13-1246, August 19, 2014). Because the captions-off default requirement, 47 CFR 64.604(c)(10)(i), (iii), and (v), has been vacated, at a later time the Commission will remove from the supporting statement the certification, recordkeeping, and reporting requirements for the hardship exemption to the captions default-off requirement, 47 CFR 64.604(c)(10)(iv).

On August 5, 2014, OMB approved, for a period of six months, the information collection requirements pertaining to the user registration and certification requirements adopted in the IP CTS Reform Order. Specifically, IP CTS providers are required to obtain from new and existing IP CTS consumers identifying information as well as self-certification of hearing loss necessitating the use of IP CTS and their understanding of the IP CTS program. In addition, existing IP CTS consumers with free or de minimis cost equipment who commenced service prior to March 7, 2013 must further submit professional certification evidencing that the consumer has a hearing loss that necessitates use of captioned telephone service. 47 CFR 64.604(c)(9).

Federal Communications Commission.
Gloria J. Miles,
Federal Register Liaison.

[FR Doc. 2014-20434 Filed 8-27-14; 8:45 am]

BILLING CODE 6712-01-P